DEPARTMENT OF THE INTERIOR

Bureau of Indian Affairs

[190A2100DD/AAKC001030/A0A501010.999900 253G; OMB Control Number 1076-0186]

Agency Information Collection Activities; Indian Child Welfare Act (ICWA) Proceedings in State Court

AGENCY: Bureau of Indian Affairs, Interior.

ACTION: Notice of information collection; request for comment.

SUMMARY: In accordance with the Paperwork Reduction Act of 1995, we, the Bureau of Indian Affairs (BIA) are proposing to renew an information collection.

DATES: Interested persons are invited to submit comments on or before December 2, 2019.

ADDRESSES: Send your comments on this information collection request (ICR) by mail to the Mrs. Evangeline M. Campbell, 1849 C Street NW, Mail Stop 3645, Washington, DC 20240; fax: (202) 513-208-5113; email: Evangeline.Campbell@bia.gov. Please reference OMB Control Number 1076-0186 in the subject line of your comments.

FOR FURTHER INFORMATION CONTACT: To request additional information about this ICR, contact Mrs. Evangeline M. Campbell, (202) 513-7621.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the BIA; (2) will this information be processed and used in a timely manner; (3) is the estimate of burden accurate; (4) how might the BIA enhance the quality, utility, and clarity of the information to be collected; and (5) how might the BIA minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Indian Child Welfare Act (ICWA or Act), 25 U.S.C. 1901 et seq., imposes certain requirements for child custody proceedings that occur in State court when a child is an “Indian child.” The regulations, primarily located in Subpart I of 25 CFR 23, provide procedural guidance for implementing ICWA, which necessarily involves information collections to determine whether the child is Indian, provide notice to the Tribe and parents or Indian custodians, and maintain records. The information collections are conducted during a civil action (i.e., a child custody proceeding). While these civil actions occur in State court, and the U.S. is not a party to the civil action, the civil action is subject to the Federal statutory requirements of ICWA, which the Secretary of the Interior oversees under the Act and general authority to manage Indian affairs under 25 U.S.C. 2 and 9.

Title of Collection: Indian Child Welfare Act (ICWA) Proceedings in State.

OMB Control Number: 1076-0186.

Form Number: None.

Type of Review: Extension of a currently approved collection.

Respondents/Affected Public: Individuals/households and State/Tribal governments.

Total Estimated Number of Annual Respondents: 7,556.

Total Estimated Number of Annual Responses: 98,069.

Estimated Completion Time per Response: Varies from 15 minutes to 12 hours, depending on the activity.

Total Estimated Number of Annual Burden Hours: 301,811.

Respondent's Obligation: Required to Obtain or Retain a Benefit.

Frequency of Collection: On occasion.

Total Estimated Annual Non-hour Burden Cost: $309,630.

An agency may not conduct or sponsor and a person is not required to respond to a collection of information unless it displays a currently valid OMB control number.

The authority for this action is the Paperwork Reduction Act of 1995 (44 U.S.C. 3501 et seq).

Elizabeth K. Appel,
Director, Office of Regulatory Affairs and Collaborative Action—Indian Affairs.

[FR Doc. 2019-21423 Filed 10-1-19; 8:45 am]

BILLING CODE 4337-15-P